DEPARTMENT OF THE INTERIOR

Bureau of Indian Affairs

Indian Gaming

AGENCY: Bureau of Indian Affairs, Interior.

ACTION: Notice of Approved Tribal—State Class III Gaming Compact.

SUMMARY: This notice publishes approval by the Department of an extension to the Class III Gaming Compact between the Pyramid Lake Paiute Indian Tribe and the State of Nevada.

DATES: Effective Date: May 23, 2012.

FOR FURTHER INFORMATION CONTACT: Paula L. Hart, Director, Office of Indian Gaming, Office of the Deputy Assistant Secretary, Policy and Economic Development, Washington, DC 20240, (202) 219-4066.

SUPPLEMENTARY INFORMATION: Under section 11 of the Indian Gaming Regulatory Act of 1988 (IGRA), Public Law 100-497, 25 U.S.C. 2710(d)(8)(D), the Secretary of the Interior shall publish in the Federal Register notice of approved tribal-state compacts for the purpose of engaging in Class III gaming activities on Indian lands. The existing Class III Gaming Compact between the Pyramid Lake Paiute Indian Tribe and the State of Nevada became effective upon publication of the Notice of Approval in the Federal Register on February 23, 2010 (47 FR 44678). This agreement allows for the extension of the existing Tribal-State Compact for a period of one (1) year.

Dated: May 11, 2012.
Donald E. Laverdure,
Acting Assistant Secretary—Indian Affairs.

[FR Doc. 2012-12510 Filed 5-22-12; 8:45 am]

BILLING CODE 4310-4N-P